DEPARTMENT OF AGRICULTURE

Forest Service

36 CFR Part 230

RIN 0596-AD21

Forest Land Enhancement Program (FLEP)

AGENCY: Forest Service, USDA.

ACTION: Final rule.

SUMMARY: This final rule removes regulations for the Forest Land Enhancement Program (FLEP) from the Code of Federal Regulations in conformity with Sec. 8001 of the Agriculture Act of 2014 (2014 Farm Bill), in which Congress repealed FLEP. The Program's funding authority expired in fiscal year 2007.

DATES: The rule is effective March 9, 2015. Submit comments by February 5, 2015.

ADDRESSES: Written comments concerning this rule should be addressed to Karl R. Dalla Rosa, 201 14th Street SW., Washington, DC 20024, Room 3SC. Comments may also be sent via email to kdallarosa@fs.fed.us

All comments, including names and addresses when provided, are placed in the record and are available for public inspection and copying. The public may inspect comments received at 201 14th Street, SW., Washington, DC 20024, Room 3SC. Visitors are encouraged to call ahead to 202-205-6206 to facilitate entry to the building.

FOR FURTHER INFORMATION CONTACT: Karl R. Dalla Rosa, Forest Stewardship Program Manager, Cooperative Forestry, at 202-205-6206, or via email at kdallarosa@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The Forest Land Enhancement Program (FLEP) was adopted in the 2002 Farm Bill (Pub. L. 107-171, Sec. 8002), as an amendment to the Cooperative Forestry Assistance Act of 1978 (Pub. L. 95-313; 16 U.S.C. 2101 et seq.). FLEP replaced the Stewardship Incentives Program (SIP) and the Forestry Incentives Program (FIP). FLEP was optional in each State and was a voluntary program for non-industrial private forest (NIPF) landowners. It provided for technical, educational, and cost-share assistance to promote the sustainability of NIPF forests. The law provided FLEP with $100 million from the Commodity Credit Corpration and spending authority though fiscal year 2007. However, half of these funds were diverted to wildfire control in 2003; $40 million of these funds were not replenished; and the spending was cancelled. With Sec. 8001 of the Agriculture Act of 2014, or the 2014 Farm Bill, Congress repealed FLEP.

List of Subjects in 36 CFR Part 230

Forests and forest products, Grant programs-natural resources, Intergovernmental relations, Reporting and recordkeeping requirements.

Accordingly, 36 CFR part 230 is amended as follows:

PART 230—STATE AND PRIVATE FORESTRY ASSISTANCE

1. The authority citation for part 230 is revised to read as follows:

Authority: 16 U.S.C. 2109.

Subpart C [Removed]

2. Remove subpart C (consisting of §§ 230.30 through 230.46).

Dated: December 17, 2014.
Robert Bonnie,
Under Secretary, Natural Resources and Environment.

[FR Doc. 2014-30806 Filed 1-5-15; 8:45 am]

BILLING CODE 3411-15-P